DEPARTMENT OF HOMELAND SECURITY

Office of the Secretary

[Docket No. DHS-2007-0066]

Privacy Act of 1974: USCIS; Verification Information System (VIS) System of Records Notice

AGENCY: Department of Homeland Security.

ACTION: Notice to alter a Privacy Act system of records.

SUMMARY: The Department of Homeland Security is republishing the Privacy Act system of records for the Verification and Information System (VIS) previously published on April 9, 2007 (72 FR 17569) in order to: (1.) Add two new categories of records one derived from the Computer Linked Application Information Management System (CLAIMS 4) (62 FR 11919), and the other derived from the Redesigned Naturalization Automated Caseworker Systems (RNACS) (67 FR 20996); (2.) update the category of records derived from Treasury Enforcement Communication Systems (TECS) (66 FR 52984) to include Real Time Arrivals (RTA) data; (3.) correct the categories of individuals to include United States (U.S.) citizens; (4.) reflect changes to the verification process of expanded use of the Photo Screening Tool to make it mandatory for all employers that are verifying employment eligibility of their non-U.S. citizen employees if the individual's photo is on file with United States Citizenship and Immigration Service (USCIS) in the Biometric Storage System (72 FR 17172); and (5.) update the routine uses to remove routine use L. for the sharing of VIS data because the other routine uses cover the allowable extent of sharing from VIS. These changes are more thoroughly spelled out in an accompanying Privacy Impact Assessment (PIA) update and a PIA update that was published on September 5, 2007, both of which can be found on the DHS Privacy Web site (http://www.dhs.gov/privacy).

DATES: Written comments must be submitted on or before March 31, 2008.

ADDRESSES: You may submit comments, identified by Docket Number DHS 2007-0066 by one of the following methods:

• Federal e-Rulemaking Portal: http://www.regulations.gov. Follow the instructions for submitting comments.

• Fax: 1-866-466-5370.

• Mail: Hugo Teufel III, Chief Privacy Officer, Department of Homeland Security, Washington, DC 20528.

Instructions: All submissions received must include the agency name and docket number for this system of records notice. All comments received will be posted without change to http://www.regulations.gov, including any personal information provided.

Docket: For access to the docket to read background documents or comments received go to http://www.regulations.gov.

FOR FURTHER INFORMATION CONTACT: For additional information on the program please contact: Claire Stapleton, Privacy Branch Chief, Verification Division, U.S. Citizenship and Immigration Services, Department of Homeland Security, 470 L'Enfant Plaza East, SW., Suite 8204, Washington, DC 20024. For privacy issues please contact: Hugo Teufel III (703-235-0780), Chief Privacy Officer, Privacy Office, U.S. Department of Homeland Security, Washington, DC 20528.

SUPPLEMENTARY INFORMATION:

I. USCIS Verification Information System

Congress mandated that USCIS establish a system that can be used to verify citizenship and immigration status of individuals seeking government benefits and establish a system for use by employers to determine whether an employee is authorized to work in the United States at the time that he or she begins working. Authority for having a system for verification of citizenship and immigration status of individuals seeking government benefits can be found in the Immigration Reform and Control Act of 1986 (IRCA), Public Law (Pub. L.) 99-603, The Personal Responsibility and Work Opportunity Reconciliation Act of 1996 (PRWORA), Public Law 104-193, 110 Stat. 2168, and in Title IV, Subtitle A, of the Illegal Immigration Reform and Immigrant Responsibility Act of 1996 (IIRIRA), Public Law 104-208, 110 Stat. 3009. Authority for having a system establish employment eligibility can be found in Title IV, Subtitle A, of the Illegal Immigration Reform and Immigrant Responsibility Act of 1996 (IIRIRA), Public Law 104-208, 110 Stat. 3009. The Basic Pilot program's operation was extended by statute twice; See Basic Pilot Extension Act, Public Law No. 107-128 (2002); and Basic Pilot Program Extension and Expansion Act, Public Law No. 108-156 (2003).

USCIS implemented these mandates through the Systematic Alien Verification for Entitlements (SAVE) program for government benefits and the “Basic Pilot Program” for determining whether an employee is authorized to work in the United States. The “Basic Pilot Program” has recently been renamed “E-Verify”. A coordinated outreach program launched in August of 2007 began informing participating employers of the new name and screen formatting changes and this outreach effort will be continued. “E-Verify” will be used in lieu of “Basic Pilot” for the remainder of this document.

The Verification Information System (VIS) is the technical infrastructure that enables USCIS to operate SAVE and E-Verify. VIS is a nationally accessible database of selected immigration status information containing in excess of 100 million records. Government agencies use information from the SAVE program in order to determine whether an individual is eligible for any public benefit, license or credential based on individual's citizenship or immigration status. Private employers and government users use E-Verify to confirm whether a newly hired employee is authorized to work in the United States.

A necessary corollary to having the ability to determine if an individual is authorized to gain government benefits or legal employment is the ability to determine if the verification processes are being abused or misused: and when appropriate, to seek legal or administrative redress against those committing fraud or otherwise misusing the verification processes. Consequently, the information in VIS is retained and analyzed for ten years, the length of time equivalent to the statute of limitations for the most typical types of fraud or misuse of this type of system or documents (under 18 U.S.C. 3291, the statute of limitations for false statements or misuse regarding passports, citizenship or naturalization documents), or longer if the information is part of an active and ongoing investigation.

VIS is currently comprised of citizenship, immigration and employment status information from several DHS systems of records, including records contained in the U.S. Customs and Border Protection (CBP) Treasury Enforcement Communication Systems (TECS) (66 FR 52984), Biometric Storage System (BSS) (72 FR 17172), the USCIS Central Index System (CIS) (72 FR 1755), and the USCIS Computer Linked Application Information Management System (CLAIMS 3) (62 FR 11919). As described in the previous system of records notice, USCIS now has the technical capability to add data from Immigration and Customs Enforcement's (ICE) Student and Exchange Visitor Information System (SEVIS) (70 FR 14477). VIS also includes information from the Social Security Administration's (SSA) NUMIDENT System (71 FR 1796).

This System of Records Notice is replacing the System of Records Notice previously published in the Federal Register on April 9, 2007 (72 FR 17569).

A. SAVE Program

The SAVE Program, which is supported by VIS, provides government agencies with citizenship and immigration status information for use in determining an individual's eligibility for government benefits. Government agencies input biographic information into VIS for government benefit eligibility determinations. If VIS has a record pertaining to the individual, the government agency will receive limited biographic information, on the citizenship and immigration status of the individual applying for a benefit. If VIS does not have a record pertaining to the individual, VIS automatically notifies a USCIS Immigration Status Verifier (ISV). The ISV then conducts a manual search of other DHS databases to determine whether there is any other information pertaining to that individual that would provide citizenship and immigration status. If the ISV finds additional relevant information, citizenship and immigration status data is provided to the requesting government agency user through VIS. The ISV will also update the appropriate record in the USCIS CIS database. The REAL ID Act requires that beginning May 11, 2008, or later if the date is extended, all state Departments of Motor Vehicles (DMV) routinely utilize the USCIS SAVE program to verify the legal immigration status of applicants for driver's licenses and identification cards.

B. E-Verify

VIS also supports the E-Verify Program, a free and voluntary program allowing participating employers to verify the employment eligibility of newly hired employees. The program is a collaboration between the SSA and USCIS.

After an individual, whether U.S. citizen or non-U.S. citizen, is hired by an E-Verify participating employer and the individual completes the Form I-9, the employer inputs information from Sections 1 and 2 of the Form I-9 into the E-Verify portion of VIS. This query is first sent from VIS to SSA to verify Social Security information. If SSA cannot verify the employee's social security information, SSA will send a SSA Tentative Non-Confirmation (TNC) response to VIS, which in turn will notify the employer of SSA's inability to automatically verify the information provided by employee. The employer is then required to provide information to the employee about the employee's option to contest and the contact information for the SSA office in order to clear up the mismatch and resolve any issues.

If SSA is able to verify the employee information and the individual is a non-U.S. citizen, the VIS system continues the process in order to verify employment authorization. For any participating employer whose non-U.S. citizen employees present an I-551 or I-766 card for their Form I-9 documentation and whose information is successfully verified by SSA and USCIS, the employer will be able to use the USCIS photo tool to compare the photographs on the documents presented by the employee with the photographs stored in the BSS system of records, if available. If VIS is able to return a photograph, the employer will then compare the photograph made available by the VIS photo tool and determine if it matches the photograph on the document presented by the employee. If the employer determines the photos do not match or if the employer cannot make a determination whether there is a photo match, the employer is then required to provide information to the employee about how the employee may contact USCIS to resolve any issues.

After the process of verifying the employment authorization concludes, regardless of whether or not the photo tool has been utilized, USCIS (through VIS) provides the employer with a case verification number and the disposition of whether an employee is authorized to work. If a mismatch of information occurs with DHS, VIS automatically notifies an ISV, who then conducts a manual search of other DHS databases to determine whether there is any other information pertaining to that individual that would help to establish employment authorization. If the ISV cannot determine the person's work authorization, VIS sends a “DHS Tentative Non-Confirmation” (TNC) response notifying the employer that the employee has the option to contact USCIS in order to clarify the information discrepancy. DHS TNCs are issued when the ISV is unable to determine the person's work authorization based on DHS immigration-related records. The employer may not terminate or take any adverse employment action against the employee on the basis of either a DHS or SSA TNC while the issue is being further investigated. If a Final Non-Confirmation (FNC) response is issued, the employer may terminate the employee or they may choose to retain the employee and notify DHS that they intend to do so, subject to potential penalties for knowingly employing an unauthorized alien. If the employer does not choose to retain the employee after receiving a Final Non-Confirmation response they are not required to notify DHS.

Performing a verification query through the E-Verify system is only legally permissible after an offer of employment has been extended to an employee. The earliest the employer may initiate a query is after an individual accepts an offer of employment and after the employee and employer complete the Form I-9. For new employees, the employer must initiate the query no later than the end of the third business day after the new hire's actual start date. Under the terms governing employers' participation in E-Verify, the system cannot be used to pre-screen job applicants or to re-screen individuals whose work eligibility has already been determined.

C. Changes to VIS SORN

The VIS SORN is being revised to reflect changes to the categories of data in VIS. In order to improve the accuracy of VIS and to reduce the number of TNCs or data mismatches issued by E-Verify, as well as reduce the number of Additional Verification Requests issued by the SAVE program, USCIS is adding data from two systems which it did not previously receive data—USCIS RNACS, USCIS CLAIMS 4— and automated access to data from a system which it previously received other information—Real Time Arrival (RTA) data from CBP's TECS. These changes are described more fully in the PIA dated September 4, 2007 and clarified in the VIS PIA and Person Centric Query (PCQ) PIA to be published concurrently with this SORN.

RNACS will provide VIS with information on individuals who applied for naturalization or citizenship, who applied to replace naturalization certificates under the Immigration and Nationality Act, as amended, and who have submitted fee payments with such applications, from 1986 through 1996. Use of RNACS will reduce the high volume of TNCs resulting from SSA's inability, in some cases, to confirm citizenship for naturalized citizens, because naturalized citizens often fail to update their information with the SSA. After the initial query, and before SSA returns a TNC based on inability to confirm citizenship, all naturalization databases will be queried (including CLAIMS 4, CIS and RNACS). Records in the system may include dated documents filed or received with the legacy Immigration and Naturalization Service (INS). This additional information will improve VIS's ability to confirm employment authorization upon initial verification for individuals with documents issued between 1986 and 1996.

CLAIMS 4 will provide VIS with verification of naturalization status through the Person Centric Query (PCQ) Service. Currently this information is only reviewed and used if there is a TNC.

Automated access to TECS RTA data will provide VIS with the most current information on individuals who have entered the country. Currently, VIS has access to this information but only about two weeks after a potential employee actually arrived in the United States. This change will provide VIS with automatic access to the most current data to ensure rapid and accurate processing of verification. This change is described more fully in the PIA published concurrently with this SORN.

The VIS SORN is being revised to correct previous VIS SORNs which state that VIS contained information on individuals covered by provisions of the Immigration and Nationality Act. However, because VIS is used to establish employment authorization for all employees from an employer that participates in the program, it necessarily includes data on both U.S. citizen and non-U.S. citizen employees. Section (b) of 8 U.S.C 1324a specifically describes the requirements for collecting and using the employment and identity verification information. This correction is further described in the PIA to publish currently with this SORN.

The VIS SORN is being updated to reflect the fact that VIS will begin requiring the use of the Photo Screening Tool for all employers verifying employment eligibility of their non-U.S. citizen employee, if a photo is on file with USCIS in the ISRS and/or BSS (when the latter is deployed) system. The use of the photo will add an additional step to further ensure that the employee is actually the person who they are claiming to be and to detect certain cases of document fraud such as superimposing a new photograph on a valid immigration document. This issue is described in the VIS PIA dated September 4, 2007.

Finally, the VIS SORN is being revised to remove routine use L. which covered sharing “To Federal and foreign government intelligence or counterterrorism agencies when DHS reasonably believes there to be a threat or potential threat to national or international security for which the information may be useful in countering the threat or potential threat, when DHS reasonably believes such use is to assist in anti-terrorism efforts, and disclosure is appropriate to the proper performance of the official duties of the person making the disclosure”. This routine use was found to go beyond the E-Verify and SAVE's legal authority for sharing. The other routine uses appropriate cover all sharings.

II. Privacy Act

The Privacy Act embodies fair information principles in a statutory framework governing the means by which the United Stated Government collects, maintains, uses and disseminates personally identifiable information. The Privacy Act applies to information that is maintained in a “system of records.” A “system of records” is a group of any records under the control of an agency from which information is retrieved by the name of an individual or by some identifying number, symbol, or other particular assigned to an individual.

The Privacy Act requires each agency to publish in the Federal Register a description denoting the type and character of each system of records that the agency maintains, and the routine uses that are contained in each system to make agency recordkeeping practices transparent, to notify individuals reading the uses to which personally identifiable information is put, and to assist the individual to more easily find such files within the agency.

III. Privacy Impact Assessments

DHS is publishing a PIA update to coincide with this SORN. This PIA update reflects many of the changes that are discussed in this SORN. Other changes were discussed more fully in the PIA update, dated September 4, 2207, which did not accompany a SORN. These updates, when taken together with the PIA dated April 1, 2007, analyze the current privacy risks to VIS.

In accordance with 5 U.S.C. 552a(r), a report on this system has been sent to Congress and to the Office of Management and Budget.

SYSTEM OF RECORDS

DHS/USCIS-004

System Name:

U.S. Citizenship and Immigration Services Verification Information System (VIS).

System Location:

The Verification Information System (VIS) database is housed in a contractor-owned facility in Meriden, CT. The system is accessible via the Internet, Web services, Secure File Transfer Protocol (SFTP) batch, and through a computer via analog telephone line, and is publicly accessible to participants of the Systematic Alien for Verification Entitlements (SAVE) program and the E-Verify Employer Verification program, including authorized USCIS personnel, other authorized government users, participating employers, and other authorized users.

Categories of Individuals Covered by the System:

This system contains information on individuals, both U.S. citizens and non-U.S. citizens covered by provisions of the Immigration and Nationality Act of the United States including but not limited to individuals who have been lawfully admitted to the United States, individuals who have been granted U.S. citizenship and individuals who have applied for other immigration benefits pursuant to 8 U.S.C. 1103 et seq. This system also contains information on individuals, both U.S. citizens and non-U.S. citizens, whose employers have submitted to the E-Verify program their employees identification documentation upon initial employment.

Categories of Records in the System:

A. Data originating from the USCIS Central Index System (CIS), including the following information about the individual who comes before USCIS: Alien Registration Number (A-Number), Name (last, first, middle), Date of birth, Date entered United States (entry date), Country of birth, Class of Admission code, File Control Office code, Social Security Number, Admission Number (I-94 Number), Provision of Law code cited for employment authorization, office code where the authorization was granted, Date employment authorization decision issued, Date employment authorization may begin (start date), Date employment authorization expires (expiration date), and Date employment authorization was denied (denial date).

B. Data originating from the U.S. Customs and Border Protection Treasury Enforcement Communications System (TECS), including the following information about the individual: A-Number, Name (last, first, middle), Date alien's status was changed (status change date), Date of birth, Class of Admission Code, Date admitted until, Country of citizenship, Port of entry, Date entered United States (entry date), Departure date, I-94 Number, Visa Number.

C. Data originating from the Redesigned Naturalization Automated Casework System (RNACS). RNACS is a database that includes information from individuals who have filed applications for naturalization, citizenship, or to replace naturalization certificates under the Immigration and Nationality Act, as amended, and/or who have submitted fee payments with such applications. The naturalization records in the RNACS database house information from 1986 to 1996. Information that identifies individuals named above, e.g., name and address, date of birth, and alien registration number. Records in the system may also include information such as date documents were filed or received in INS, status, codes of admission, and locations of record.

D. Data originating from the Computer Linked Applications Information Management System (CLAIMS 4) including the following information about the individual; First Name, Last Name, Date of Birth, Social Security Number, and naturalization date.

E. Data originating from the USCIS Biometric Storage System (BSS), including: Receipt Number, Name (last, first, middle), Date of Birth, Country of Birth, Alien number, Form number, for example Form I-551 (Lawful Permanent Resident card) or Form I-766 (Employment Authorization Document), Expiration Date, and Photo.

F. Data originating from the USCIS Computer Linked Application Information Management System (CLAIMS 3), including: Receipt number, Name (last, first, middle), Date of Birth, Country of Birth, Class of Admission Code, A-number, I-94 number, Date entered United States (entry date), and Valid To Date.

G. Data originating from the U.S. Immigration and Customs Enforcement (ICE) Student and Exchange Visitor Information System (SEVIS), including: SEVIS Identification Number (SEVIS ID), Name (last, first, middle), Date of Birth, Country of Birth, Class of Admission Code, I-94 number, Date entered United States (entry date), and Valid To Date.

H. Data originating from Social Security Administration (SSA), including: Confirmation of employment eligibility based on SSA records, tentative non-confirmation of employment eligibility and the underlying justification for this decision, and Final non-confirmation of employment eligibility.

I. Information collected from the benefit applicant by a federal, state, local or other benefit-issuing agency to facilitate immigration status verification that may include the following about the benefit applicant: Receipt Number, A-Number, I-94 Number, Name (last, first, middle), Date of birth, User Case Number, DHS document type, DHS document expiration date, SEVIS ID and Visa Number.

J. Information collected from the benefit-issuing agency about users accessing the system to facilitate immigration status verification that may include the following about the Agency: Agency name, Address, Point(s) of Contact, Contact telephone number, Fax number, E-mail address, Type of benefit(s) the agency issues (i.e. Unemployment Insurance, Educational Assistance, Driver Licensing, Social Security Enumeration, etc.).

K. Information collected from the benefit-issuing agency about the Individual Agency User including: Name (last, first, middle), Phone Number, Fax Number, E-mail address, User ID for users within the Agency.

L. System-generated response, as a result of the SAVE verification process including: Case Verification Number, Entire record in VIS database as outlined above, including all information from CIS, SEVIS, TECS, and CLAIMS 3 and with the exception of the biometric information (photo) from BSS, and Immigration status (e.g. Lawful Permanent Resident).

M. Information collected from the employee by the Employer User to facilitate employment eligibility verification may include the following about the Individual employee: Receipt Number, Visa Number, Foreing Passport number, A-Number, I-94 Number, Name (last, first, middle initial, maiden), Social Security Number, Date of birth, Date of hire, Claimed citizenship status, Acceptable Form I-9 document type, and Acceptable Form I-9 Document expiration date.

N. Information Collected About the Employer, including: Company name, Physical Address, Employer Identification Number, North American Industry Classification System code, Number of employees, Number of sites, Parent company or Corporate company, Name of Contact(s), Phone Number, Fax Number, and E-mail Address.

O. Information Collected about the Employer User (e.g., Identifying users of the system at the Employers), including: Name, Phone Number, Fax Number, E-mail address, and User ID.

P. System-generated response information, resulting from the E-Verify employment eligibility verification process, including: Case Verification Number; VIS generated response: Employment authorized, Tentative non-confirmation, Case in continuance, Final non-confirmation, Employment unauthorized, or DHS No Show; Disposition data from the employer includes Resolved Unauthorized/Terminated, Self Terminated, Invalid Query, Employee not terminated, Resolved Authorized, and Request additional verification, which includes why additional verification is requested by the employer user.

Authority for Maintenance of the System:

The authority for the maintenance of records in the system is found in 8 U.S.C. 1324a, 8 U.S.C. 1360, 42 U.S.C. 1320b-7 and the Immigration Reform and Control Act of 1986 (IRCA), Public Law (Pub. L.) 99-603, The Personal Responsibility and Work Opportunity Reconciliation Act of 1996 (PRWORA), P.L. 104-193, 110 Stat. 2168, and in Title IV, Subtitle A, of the Illegal Immigration Reform and Immigrant Responsibility Act of 1996 (IIRIRA), Public Law 104-208, 110 Stat. 3009.

Purpose(s):

This system of records is used to provide immigration and citizenship status information to Federal, State, and local government agencies for immigrants, non-immigrants, and naturalized U.S. citizens applying for Federal, State, and local public benefits.

It is also used to provide employment authorization information to employers participating in the E-Verify/Employment Eligibility Verification Program.

Lastly this system of records may be used to monitor for the commission of fraud or other illegal activity related to misuse of either the SAVE or E-Verify program including as investigating duplicate registrations by employers, inappropriate registration by individuals posing as employers, verifications that are not performed within the required 3-day verification time limit, and cases referred to E-Verify or SAVE by the Department of Justice (DOJ) Office of Special Counsel for Immigration-Related Unfair Employment Practices (OSC).

Routine Uses of Records Maintained in the System, Including Categories of Users and the Purposes of Such Uses:

In addition to those disclosures generally permitted under 5 U.S.C. 552a(b) of the Privacy Act, a portion of the records or information contained in this system may be disclosed outside DHS as a routine use pursuant to 5 U.S.C. 552a(b)(3) as follows:

A. To a federal, state, tribal, or local government agency, or to a contractor acting on the agency's behalf, to the extent that such disclosure is necessary to enable these agencies to make decisions concerning: (1) Determination of eligibility for a federal, state, or local public benefit; (2) issuance of a license or grant; or (3) government-issued credential.

B. To employers participating in the E-Verify Employment Verification Program in order to verify the employment eligibility of their employees working in the United States.

C. To other Federal, State, tribal, and local government agencies seeking to verify or determine the citizenship or immigration status of any individual within the jurisdiction of the DHS as authorized or required by law.

D. To contractors, grantees, experts, consultants, and others performing or working on a contract, service, grant, cooperative agreement, or other assignment for the federal government, when necessary to accomplish a DHS mission function related to this system of records, in compliance with the Privacy Act of 1974, as amended.

E. To a Congressional office, from the record of an individual in response to an inquiry from that Congressional office made at the request of the individual to whom the record pertains.

F. To the National Archives and Records Administration or other Federal government agencies pursuant to records management inspections being conducted under the authority of 44 U.S.C. 2904 and 2906.

G. To a former employee of the Department for purposes of: (1) Responding to an official inquiry by a federal, state, or local government entity or professional licensing authority, in accordance with applicable Department regulations; or (2) facilitating communications with a former employee that may be necessary for personnel-related or other official purposes where the Department requires information and/or consultation assistance from the former employee regarding a matter within that person's former area of responsibility.

H. To the DOJ, Civil Rights Division, for the purpose of responding to matters within the DOJ's jurisdiction to include allegations of fraud and/or nationality discrimination.

I. To appropriate agencies, entities, and persons when: (1) It is suspected or confirmed that the security or confidentiality of information in the system of records has been compromised; (2) it is determined that as a result of the suspected or confirmed compromise there is a risk of harm to economic or property interests, identity theft or fraud, or harm to the security or integrity of this system or other systems or programs (whether maintained by DHS or another agency or entity) that rely upon the compromised information; and (3) the disclosure is made to such agencies, entities, and persons when reasonably necessary to assist in connection with efforts to respond to the suspected or confirmed compromise and prevent, minimize, or remedy such harm.

J. To the United States Department of Justice (including United States Attorney offices) or other federal agency conducting litigation or in proceedings before any court, adjudicative or administrative body, or to the court or administrative body, when it is necessary to the litigation and one of the following is a party to the litigation or has an interest in such litigation: (1) DHS; (2) any employee of DHS in his or her official capacity; (3) any employee of DHS in his or her individual capacity where DOJ or DHS has agreed to represent said employee; or (4) the United States or any agency thereof;

K. To appropriate federal, state, local, tribal, or foreign governmental agencies or multilateral governmental organizations responsible for investigating or prosecuting the violations of, or for enforcing or implementing, a statute, rule, regulation, order, license, or treaty where DHS determines that the information would assist in the enforcement of civil or criminal laws.

Disclosure to consumer reporting agencies:

None.

Policies and Practices for Storing, Retrieving, Accessing, Retaining and Disposing of Records in the System:

Data is stored in computer accessible storage media and hardcopy format.

Retrievability:

Agency records are retrieved by name of applicant or other unique identifier to include: verification number, A-Number, I-94 Number, Visa Number, SEVIS ID, or by the submitting agency name. Employer records are retrieved by verification number, A-Number, I-94 Number, Receipt Number, Passport (U.S. or Foreign) number or Social Security Number of the employee, or by the submitting company name.

Safeguards:

Information in this system is safeguarded in accordance with applicable laws and policies, including the DHS information technology security policies and the Federal Information Security Management Act (FISMA). All records are protected from unauthorized access through appropriate administrative, physical, and technical safeguards. These safeguards include restricting access to authorized personnel on a need-to-know basis, using locks, and password protection features. The system is also protected through a multi-layer security approach. The protective strategies are physical, technical, administrative and environmental in nature, which provide access control to sensitive data, physical access control to DHS facilities, confidentiality of communications, authentication of sending parties, and personnel screening to ensure that all personnel with access to data are screened through background investigations commensurate with the level of access required to perform their duties.

Information maintained by DHS contractors for this system is also safeguarded in accordance with all applicable laws and regulations, including DHS IT security policies and FISMA. Access is controlled through user identification and discrete password functions to assure that accessibility is limited.

Retention and Disposal:

The following proposal for retention and disposal is being prepared to be sent to the National Archives and Records Administration for approval. Records collected in the process of establishing immigration and citizenship status or employment authorization are stored and retained in the VIS Repository for ten (10) years, from the date of the completion of the verification unless the records are part of an on-going investigation in which case they may be retained until completion of the investigation. This period is based on the statute of limitations for most types of misuse or fraud possible using VIS (under 18 U.S.C. 3291, the statute of limitations for false statements or misuse regarding passports, citizenship or naturalization documents).

Once the web user views the photo, the image is discarded and not retained on the web user's computer. Photocopies mailed to DHS in response to a TNC will be maintained as long as necessary to complete the verification process, and the duration of the benefit granted, but not limited to possible investigation and prosecution of fraud in the case of detected photo substitution.

System Manager(s) and Address:

Chief, Verification Division, U.S. Citizenship and Immigration Services, 470-490 L'Enfant Plaza East, SW., Suite 8206, Washington, DC 20024.

Notification Procedures:

Please address your inquiries about the VIS system in writing to the system manager identified above. To determine whether this system contains records relating to you, provide a written request containing the following information:

1. Identification of the record system;

2. Identification of the category and types of records sought; and

3. The requesting individual's signature and verification of identity pursuant to 28 U.S.C. 1746, which permits statements to be made under penalty of perjury. Alternatively, a notarized statement may be provided.

Address inquiries to the system manager at: Chief, Verification Division, U.S. Citizenship and Immigration Services, 470-490 L'Enfant Plaza East, SW., Suite 8206, Washington, DC 20024, or to the Freedom of Information/Privacy Act Office, USCIS, National Records Center, P.O. Box 6481010, Lee Summit, MO 64064-8010.

Record Access Procedures:

In order to gain access to one's information stored in the VIS database, a request for access must be made in writing and addressed to the Freedom of Information Act/Privacy Act (FOIA/PA) officer at USCIS. Individuals who are seeking information pertaining to them are directed to clearly mark the envelope and letter “Privacy Act Request.” Within the text of the request, the subject of the record must provide his/her account number and/or the full name, date and place of birth, and notarized signature, and any other information which may assist in identifying and locating the record, and a return address. For convenience, individuals may obtain Form G-639, FOIA/PA Request, from the nearest DHS office and used to submit a request for access. The procedures for making a request for access to one's records can also be found on the USCIS Web site, located at http://www.uscis.gov.

An individual who would like to file a FOIA/PA request to view their USCIS record may do so by sending the request to the following address: U.S. Citizenship and Immigration Services, National Records Center, FOIA/PA Office, P.O. Box 648010, Lee's Summit, MO 64064-8010.

Contesting Record Procedures:

Individuals have an opportunity to correct their data by submitting a redress request directly to the USCIS Privacy Officer who refers the redress request to the USCIS Office of Records. When a redress request is made, any appropriate change is added directly to the existing records stored in the underlying DHS system of records from which the information was obtained. Once the record is updated in the underlying DHS system of records, it is downloaded into VIS. If an applicant believes their file is incorrect but does not know which information is erroneous, the applicant may file a Privacy Act request to access their record as detailed in the section titled “Record access procedures” above.

Record Source Categories:

Information contained comes from several sources: (A.) Information derived from the following DHS systems of records, USCIS's CIS, CLAIMS3, CLAIMS4, RNACS, ISRS and/or BSS (when the latter system is deployed); CBP's TECS; and ICE's SEVIS, (B.) Information derived from the SSA, (C.) Information collected from agencies and employers about individuals seeking government benefits or employment with an employer using an employment verification program, (D.) Information collected from system users at either the agency or the employer used to provide account access to the verification program, and (E.) Information developed by VIS to identify possible issues of misuse or fraud.

Exemptions Claimed for the System:

None.

Hugo Teufel III,
Chief Privacy Officer, Department of Homeland Security.

[FR Doc. E8-3833 Filed 2-27-08; 8:45 am]

BILLING CODE 4410-10-P